DEPARTMENT OF AGRICULTURE

Forest Service

Notice of Delegation of Authority From the Regional Forester, Eastern Region, to Forest Supervisors, Eastern Region, for Forest Road and Trail Act (FRTA) Easements

AGENCY: Forest Service, USDA.

ACTION: Notice.

SUMMARY: The Regional Forester, Eastern Region, hereby delegates the authority to grant FRTA easements, to public road agencies, to all Forest Supervisors in the Easter Region, Forest Service.

Forest Supervisors are also authorized to terminate FRTA easements, to public road agencies, with the consent of the grantee.

Dated: February 7, 2002.
Donald L. Meyer,
Acting Regional Forester.

[FR Doc. 02-5148 Filed 3-4-02; 8:45 am]

BILLING CODE 3410-11-M